DEPARTMENT OF EDUCATION

Office of Special Education and Rehabilitative Services

Correction

In notice document 02-16959 beginning on page 45278 in the issue of Monday, July 8, 2002, make the following correction:

On page 45280, in the third column, in paragraph (j)(4), in the eighth line, “10 satellite” should read “satellite”.

[FR Doc. C2-16959 Filed 8-2-02; 8:45 am]

BILLING CODE 1505-01-D

DEPARTMENT OF TRANSPORTATION

Federal Aviation Administration

14 CFR Part 39

[Docket No. 2002-NM-131-AD; Amendment 39-12825; AD 2002-14-25]

RIN 2120-AA64

Airworthiness Directives; Empresa Brasileira de Aeronautica S.A. (EMBRAER) Model EMB-135 and -145 Series Airplanes

Correction

In rule document 02-18028 beginning on page 48366 in the issue of Wednesday, July 24, 2002, make the following corrections:

1. On page 48366, in the second column, in the ACTION heading, “Final rule” should read “Final rule; ”

2. On the same page, in the same column, in the SUMMARY heading, in the second line, “directives” should read “directive ”.

3. On the same page, in the third column, in the first paragraph, in the 10th line, “would ” should read “could ”.

4. On the same page, in the same column, in the same paragraph, in the 13th line, “needed ” should read “intended ”.

5. On the same page, in the same column, in the DATES heading, in the second paragraph, in the 6th line, “21567), ” should read “21567 ”.

6. On the same page, in the same column, in the ADDRESSES heading, in the first paragraph, in the 14th line “ 9/anm” should read “ ÿ7E9-anm”.

7. On the same page, in the same column, in the same paragraph, in the 17th line, “ 202” should read “2002 ”.

8. On the same page, in the same column, in the second paragraph, in the third line, “Braileira ” should read “Brasileira ”.

9. On page 48367, in the first column, in the SUPPLEMENTARY INFORMATION heading, in the third line, “(65” should read “(67”.

10. On page 48367, in the first column, in the second paragraph, under the heading Actions Since Issuance of Previous Rule, in the sixth line, “instruments” should read “instructions”.

11. On the same page, in the second column, in the fourth paragraph, in the third line, “Organized ” should read “Organize ”.

12. On the same page in the third column, in the second paragraph, in the 18th line, “if filed ” should read “if filed, ”.

§39.13 [Corrected]

13. On the same page in §39.13, in the same column, in the Authority citation, in the first line, “100(g) ” should read “106(g) ”.

14. On the same page in §39.13, in the same column, in the ninth line from the bottom, “39-128.25 ” should read “ 39-12825”.

15. On page 48368, in the same section, in the first column, in Note 1:, in the fourth line, “modified altered,” should read “modified, altered,”.

16. On the same page, in the same section, in the same column, the heading “ Repetitive Inspectors (Tests)/Replacement” should read “ Repetitive Inspections (Tests)/Replacement”.

17. On the same page, in the same section, in the same column, in paragraph (b), in the 11th line, “their” should read “after”.

18. On the same page, in the same section, in the second column, in paragraph (f)(3), in the second line, “Aeronautics” should read “Aeronautica”.

19. On the same page, in the same section, in the second column, in paragraph (f)(3), in the third line, “San” should read “Sao”.

[FR Doc. C2-18028 Filed 8-2-02; 8:45 am]

BILLING CODE 1505-01-D